NUCLEAR REGULATORY COMMISSION

Notice of Opportunity to Comment on the Proposed Information Collection Initiative

AGENCY: Nuclear Regulatory Commission.

ACTION: Notice of opportunity for public comment.

SUMMARY: The U.S. Nuclear Regulatory Commission (NRC) staff has prepared a proposed initiative for the voluntary submittal of information by external stakeholders about the impact that licensing actions and other regulatory activities have on maintaining safety and reducing unnecessary regulatory burden for commercial nuclear power plants. The purpose of this initiative is to obtain information to assist the Office of Nuclear Reactor Regulation (NRR) staff in (1) allocating staff resources and (2) measuring how the work NRR staff completes contributes to the agency goals of maintaining safety and reducing unnecessary regulatory burden. The staff is requesting comments on this proposed information collection initiative.

DATES: The comment period expires January 22, 2001. Comments received after this date will be considered if it is practical to do so, but the Commission is able to ensure consideration only for comments received on or before this date.

ADDRESSES: Comments may be submitted in person or via U.S. mail.

Submit written comments to: Chief, Rules and Directives Branch, Division of Administrative Services, U.S. NRC, Mail Stop T6-D59, Washington, DC 20555-0001.

Hand deliver comments to: 11555 Rockville Pike, Rockville, Maryland, between 7:45 a.m. and 4:15 p.m. on Federal workdays.

Copies of comments received may be examined at the NRC's Public Document Room, One White Flint North, 11555 Rockville Pike (first floor), Rockville, Maryland.

FOR FURTHER INFORMATION CONTACT: Pat Madden, Mail Stop O8E6, Division of Licensing Project Management, Office of Nuclear Reactor Regulation, U.S. Nuclear Regulatory Commission, Washington, DC 20555-0001, telephone 301-415-2854, email pmm@nrc.gov.

SUPPLEMENTARY INFORMATION: As applicants submit requests for regulatory deliverables (e.g., license amendment approvals, topical report reviews, rulemaking petitions), they would voluntarily provide information about the impact their request would have on maintaining safety and reducing unnecessary regulatory burden. Ideally, measures for safety impact would include changes in person-rem dose or changes in core damage frequency (CDF). Similarly, measures for regulatory burden reduction would include changes in licensee costs or power production capability. However, the staff recognizes that it may not be possible or practical to provide actual risk metrics or dollar savings, and that more qualitative measurements may be more realistic. The staff invites comments from our external stakeholders to ensure that the measures are uniform, practical, and meaningful, and provide the appropriate yardstick for measuring the impact that a proposed activity has on safety and regulatory burden. This information would be collected for many types of external stakeholder submittals including license amendments, topical reports, rulemaking petitions, and license renewal applications. The staff encourages suggestions on what other submittals such information should be collected for in response to this initiative. Recognizing that there are many factors that could inhibit licensees and other stakeholders from providing such information, we invite comments to obtain an understanding of what the factors are and how they may be overcome.

The information described above would assist NRR in (1) allocating staff resources and (2) measuring how the work NRR staff completes contributes to the agency goals of maintaining safety and reducing unnecessary regulatory burden. The staff is requesting comments on this proposed information collection initiative.

With respect to the first purpose, allocating staff resources, NRR would use the information collected to improve its effectiveness by pursuing those regulatory activities that maintain safety (or involve acceptable reductions in margin) but provide the highest return in reducing unnecessary regulatory burden. NRR is establishing a “work planning center” to centralize the planning and scheduling of NRR work activities, including the prioritization of specific work items. The priority factors include consideration of public health and safety, operational significance, statutory significance, and stakeholder standing and merit. Also factored into the work prioritization process is the required responsiveness (e.g., normal, increased, or immediate). The information collected through this initiative would become part of the input for this work planning and scheduling.

This use of information provided by licensees in order to prioritize agency work is similar to a regulatory approach employed by the agency and licensees in the early 1990's for cost beneficial licensing actions (CBLAs). In this approach, licensees identified for the agency those licensing actions that had high economic benefits, minimal impact on safety, and required minimal agency review time. Such actions were termed CBLAs, and the agency afforded these actions higher priority treatment. One difference between this proposed information collection initiative and the CBLA approach is that the latter was limited in its scope to licensing actions meeting the above criteria. A second, more important distinction between the two is that this proposed initiative has another purpose, which we describe in the following paragraph.

With respect to the second purpose, measuring how the work NRR staff completes contributes to the agency goals of maintaining safety and reducing unnecessary regulatory burden, the information collected would support the agency's efforts toward becoming a performance-based organization. This is consistent with the enactment of the Government Performance and Results Act (GPRA). The agency has established a framework for implementing the performance-based approach called the Planning, Budgeting, and Performance Management (PBPM) process. This PBPM process consists of setting the strategic direction, budgeting resources, and measuring and assessing performance. The agency reports the measures and assessment of performance in yearly reports to the President and the Congress. The information collected as described in this initiative would be used in these yearly reports to demonstrate to stakeholders that safety is being maintained even as the staff allows for unnecessary burden reduction. The staff would also use the information collected to demonstrate to stakeholders what the staff has accomplished with the resources that we have been given. This type of information would allow the staff to better align its outputs (e.g., license amendments) to NRR performance goals (e.g., maintain safety). By compiling this type of information over the fiscal year, instead of simply stating that the NRR staff completed 1500 licensing actions per year (outputs), the staff can also quantify such performance measures as direct cost savings to licensees, person-rem savings, and reduced shutdown risk that resulted from approval of those licensing actions (outcomes).

The success of this voluntary initiative is dependent on industry's willingness to provide the information. The staff realizes that there may be concerns with how we will use the information collected to prioritize work within NRR. The staff invites comments and suggestions such that we may directly address such concerns. We also recognize that this information collection initiative should be as simple as possible while still providing meaningful information. We encourage comments on how to most simply characterize the safety and regulatory burden impact such that this information collection initiative does not become time-consuming or resource-intensive.

After receiving formal comments in response to this Federal Register notice, the staff plans to hold a public meeting to develop a consensus as to the type of voluntary information that could be used to measure impact on safety and reduction in unnecessary regulatory burden. This meeting is currently planned for February 2001. Finally, if reasonable and acceptable metrics can be developed and made available to all stakeholders, the staff expects to begin using voluntary information submitted under this initiative after October 1, 2001.

Dated at Rockville, Maryland, this 1st day of December, 2000.
For the Nuclear Regulatory Commission.
John A. Zwolinski,
Director, Division of Licensing and Project Management, Office of Nuclear Reactor Regulation.

[FR Doc. 00-31155 Filed 12-6-00; 8:45 am]

BILLING CODE 7590-01-P